DEPARTMENT OF ENERGY

Federal Energy Regulatory Commission

[Docket No. EG00-171-000, et al.]

EUA Ocean State Power Corporation, et al., Electric Rate and Corporate Regulation Filings

June 20, 2000.

Take notice that the following filings have been made with the Commission:

1. EUA Ocean State Power Corporation

[Docket No. EG00-171-000]

Take notice that on June 15, 2000, EUA Ocean State Power Corporation (EUA OSP) filed an application for determination of exempt wholesale generator status pursuant to Part 365 of the Commission's regulations. EUA OSP states that it is engaged indirectly through its affiliates in owning and operating the Ocean State Power project consisting of two approximately 250 megawatt electric generating facilities located in Burrillville, Rhode Island. Electric energy produced by the Ocean State Power project is sold exclusively at wholesale.

Comment date: July 11, 2000, in accordance with Standard Paragraph E at the end of this notice. The Commission will limit its consideration of comments to those that concern the adequacy or accuracy of the application.

2. Southwestern Public Service Company

[Docket No. ER00-2840-000]

Take notice that on June 15, 2000, Southwestern Public Service Company (Southwestern), tendered for filing its proposed non-fuel and non-purchased power operations and maintenance expense savings credit resulting from its merger with Public Service Company of Colorado required in its agreement with Lyntegar Electric Cooperative, Inc. (Lyntegar) filed in Docket No ER97-3906-000.

Comment date: July 6, 2000, in accordance with Standard Paragraph E at the end of this notice.

3. Tucson Electric Power Company

[Docket No. ER00-2841-000]

Take notice that on June 15, 2000, Tucson Electric Power Company (Tucson) tendered for filing one (1) umbrella service agreement (for short-term firm service) pursuant to Part II of Tucson's Open Access Transmission Tariff, which was filed in Docket No. OA96-140-000.

The details of the service agreement are as follows:

(1) Umbrella Agreement for Short-Term Firm Point-to-Point Transmission Service dated as of June 12, 2000 by and between Tucson Electric Power Company and El Paso Merchant Energy, L.P. No service has commenced at this time.

Tucson requests that the service agreement become effective as of June 14, 2000.

Comment date: July 6, 2000, in accordance with Standard Paragraph E at the end of this notice.

4. Southwestern Public Service Company

[Docket No. ER00-2842-000]

Take notice that on June 15, 2000, Southwestern Public Service Company (Southwestern), tendered for filing its proposed non-fuel and non-purchased power operations and maintenance expense savings credit resulting from its merger with Public Service Company of Colorado required in its agreement with Roosevelt Electric Cooperative, Inc. (Roosevelt) filed in Docket No ER97-3902-000.

Comment date: May 5, 2000, in accordance with Standard Paragraph E at the end of this notice.

5. Southwestern Public Service Company

[Docket No. ER00-2845-000]

Take notice that on June 15, 2000, Southwestern Public Service Company (Southwestern), tendered for filing its proposed non-fuel and non-purchased power operations and maintenance expense savings credit resulting from its merger with Public Service Company of Colorado required in its agreement with Central Valley Electric Cooperative, Inc. (Central Valley) filed in Docket No ER97-3904-000.

Comment date: July 6, 2000, in accordance with Standard Paragraph E at the end of this notice.

6. Southwestern Public Service Company

[Docket No. ER00-2846-000]

Take notice that on June 15, 2000, Southwestern Public Service Company (Southwestern), tendered for filing its proposed non-fuel and non-purchased power operations and maintenance expense savings credit resulting from its merger with Public Service Company of Colorado required in its agreement with Lea County Electric Cooperative, Inc. (Lea County) filed in Docket No ER97-3905-000.

Comment date: July 6, 2000, in accordance with Standard Paragraph E at the end of this notice.

7. Southwestern Public Service Company

[Docket No. ER00-2847-000]

Take notice that on June 15, 2000, Southwestern Public Service Company (Southwestern), tendered for filing its proposed non-fuel and non-purchased power operations and maintenance expense savings credit resulting from its merger with Public Service Company of Colorado required in its agreement with New Corp Resources, Inc. (New Corp) filed in Docket No ER97-3903-000.

Comment date: July 6, 2000, in accordance with Standard Paragraph E at the end of this notice.

8. PacifiCorp

[Docket No. ER00-2848-000]

Take notice that PacifiCorp on June 15, 2000, tendered for filing in accordance with 18 CFR Part 35 of the Commission's Rules and Regulations, a Notice of Cancellation of Service Agreement No. 140 under PacifiCorp's FERC Electric Tariff, Fourth Revised Volume No. 3 between Illinova Power Marketing, Inc. (Illinova) and PacifiCorp.

Copies of this filing were supplied to the Washington Utilities and Transportation Commission and the Public Utility Commission of Oregon.

Comment date: July 6, 2000, in accordance with Standard Paragraph E at the end of this notice.

9. Carolina Power & Light Company

[Docket No. ER00-2849-000]

Take notice that on June 15, 2000, Carolina Power & Light Company (CP&L) tendered for filing an executed Service Agreement with PG&E Energy Trading-Power, L.P. under the provisions of CP&L's Market-Based Rates Tariff, FERC Electric Tariff No. 4. This Service Agreement supersedes the un-executed Agreement originally filed in Docket No. ER98-3385-000 and approved effective May 18, 1998.

CP&L is requesting an effective date of May 18, 1998 for this Agreement.

Copies of the filing were served upon the North Carolina Utilities Commission and the South Carolina Public Service Commission.

Comment date: July 6, 2000, in accordance with Standard Paragraph E at the end of this notice.

10. Northern Indiana Public Service Company

[Docket No. ER00-2855-000]

Take notice that on June 15 , 2000, Northern Indiana Public Service Company (Northern Indiana) filed a Service Agreement pursuant to its Power Sales Tariff with British Columbia Power Exchange Corporation (Powerex).

Northern Indiana has requested an effective date of June 19, 2000.

Copies of this filing have been sent to Powerex, the Indiana Utility Regulatory Commission, and the Indiana Office of Utility Consumer Counselor.

Comment date: July 6, 2000, in accordance with Standard Paragraph E at the end of this notice.

11. Northern Indiana Public Service Company

[Docket No. ER00-2856-000]

Take notice that on June 15 , 2000, Northern Indiana Public Service Company (Northern Indiana) filed a Service Agreement pursuant to its Power Sales Tariff with ONEOK Power Marketing Company (OPMC).

Northern Indiana has requested an effective date of June 16, 2000.

Copies of this filing have been sent to OPMC, the Indiana Utility Regulatory Commission, and the Indiana Office of Utility Consumer Counselor.

Comment date: July 6, 2000, in accordance with Standard Paragraph E at the end of this notice.

12. Carolina Power & Light Company

[Docket No. ER00-2857-000]

Take notice that on June 15, 2000, Carolina Power & Light Company (CP&L) tendered for filing an executed Service Agreement between CP&L and the following eligible buyer: El Paso Merchant Energy, L.P. Service to this eligible buyer will be in accordance with the terms and conditions of CP&L's Market-Based Rates Tariff, FERC Electric Tariff No. 4, for sales of capacity and energy at market-based rates.

CP&L requests an effective date of May 22, 2000 for this Service Agreement.

Copies of the filing were served upon the North Carolina Utilities Commission and the South Carolina Public Service Commission.

Comment date: July 6, 2000, in accordance with Standard Paragraph E at the end of this notice.

13. PSEG Energy Resources & Trade LLC

[Docket No. ER00-2858-000]

Take notice that on June 15, 2000, PSEG Energy Resources & Trade LLC (ER&T) of Newark, New Jersey, tendered for filing an agreement for the potential long-term sale of capacity and energy to Niagara Mohawk Power Corporation pursuant to the ER&T Wholesale Power Market Based Sales Tariff, on file with the Commission.

ER&T requests that the Service Agreement be made effective May 19, 2000.

Copies of the filing have been served upon Niagara Mohawk Power Corporation and the New York Public Service Commission.

Comment date: July 6, 2000, in accordance with Standard Paragraph E at the end of this notice.

14. New York Independent System Operator, Inc.

[Docket No. ER00-1969-001]

Take notice that on June 15, 2000, the New York Independent System Operator, Inc. (NYISO), tendered for filing Revisions to its Market Administration and Control Area Services Tariff in a compliance filing made pursuant to the order of the Federal Energy Regulatory Commission in Docket No. ER00-1969-000 on May 31, 2000.

The NYISO requests an effective date of May 31, 2000 and waiver of notice requirements.

A copy of this filing was served upon all persons who have signed the NYISO Market Administration and Control Area Services Tariff.

Comment date: July 6, 2000, in accordance with Standard Paragraph E at the end of this notice.

15. TXU Energy Trading Company

[Docket No. ER00-2178-001]

Take notice that on June 15, 2000, TXU Energy Trading Company (TXU ET), tendered for filing a compliance revised rate schedule to modify the revised rate schedule included in TXU ET's April 11, 2000 filing in Docket No. ER00-2178-000, in compliance with the Commission's June 2, 2000 order in that Docket.

Copies of the filing were served on the persons designated on the official service list compiled by the Secretary in this proceeding.

Comment date: July 6, 2000, in accordance with Standard Paragraph E at the end of this notice.

16. Southwestern Public Service Company

[Docket No. ER00-2850-000]

Take notice that on June 15, 2000, Southwestern Public Service Company (Southwestern), tendered for filing its proposed non-fuel and non-purchased power operations and maintenance expense savings credits resulting from its merger with Public Service Company of Colorado required in its agreement with Golden Spread Electric Cooperative, Inc. (Golden Spread) filed in Docket No ER97-47-000.

Comment date: July 6, 2000, in accordance with Standard Paragraph E at the end of this notice.

17. Southwestern Public Service Company

[Docket No. ER00-2853-000]

Take notice that on June 15, 2000, Southwestern Public Service Company (Southwestern), tendered for filing its proposed non-fuel and non-purchased power operations and maintenance expense savings credit resulting from its merger with Public Service company of Colorado required in its agreement with Farmers' Electric Cooperative, Inc. (Farmers) filed in Docket No ER97-3901-000.

Comment date: July 6, 2000, in accordance with Standard Paragraph E at the end of this notice.

18. Entergy Services, Inc.

[Docket No. ER00-2854-000]

Take notice that on June 15, 2000, Entergy Services, Inc. (ESI) on behalf of the Entergy Operating Companies (Entergy Arkansas, Inc., Entergy Gulf States, Inc., Entergy Louisiana, Inc., Entergy Mississippi, Inc., and Entergy New Orleans, Inc.) (collectively, Entergy), tendered for filing several amendments to the System Agreement to facilitate the introduction of retail competition in Arkansas and Texas on January 1, 2002, and to provide for continued rough equalization of costs among the Operating Companies operating in Louisiana and Mississippi. The System Agreement is a FERC-approved rate schedule among ESI and the Operating Companies providing for coordinated operation of the generation and bulk transmission facilities of the Operation Companies and the allocation of benefits and costs among them. Entergy states that it has served a copy of this filing on its retail regulators and the Docket No. EL00-66-000 service list.

Comment date: July 6, 2000, in accordance with Standard Paragraph E at the end of this notice.

19. Northern States Power Company (Minnesota); Northern States Power Company (Wisconsin)

[Docket No. ER00-2859-000]

Take notice that on June 12, 2000, Northern States Power Company (Minnesota) and Northern States Power Company (Wisconsin) (jointly NSP), tendered for filing a Non-Firm and a Short-Term Firm Point-to-Point Transmission Service Agreement between NSP and Split Rock Energy LLC.

NSP requests that the Commission accept the Agreement effective June 2, 2000, and requests waiver of the Commission's notice requirements in order for the agreements to be accepted for filing on the date requested.

Comment date: July 6, 2000, in accordance with Standard Paragraph E at the end of this notice.

20. Wisconsin Electric Power Company

[Docket No. ER00-2860-000]

Take notice that on June 15, 2000, Wisconsin Electric Power Company (Wisconsin Electric), tendered for filing short-term firm Transmission Service Agreements and non-firm Transmission Service Agreements between itself and Cargill-Alliant LLC (Cargill) and between Wisconsin Electric and Split Rock Energy LLC (SRE). The Transmission Service Agreements allows Cargill and SRE to receive transmission services under Wisconsin Energy Corporation Operating Companies' FERC Electric Tariff, Volume No. 1.

Wisconsin Electric requests an effective date coincident with its filing and waiver of the Commission's notice requirements in order to allow for economic transactions as they appear.

Copies of the filing have been served on Cargill, SRE, the Public Service Commission of Wisconsin and the Michigan Public Service Commission.

Comment date: July 6, 2000, in accordance with Standard Paragraph E at the end of this notice.

21. Alliant Energy Corporate Services, Inc.

[Docket No. ER00-2861-000]

Take notice that on June 15, 2000, Alliant Energy Corporate Services, Inc. tendered for filing an executed Service Agreement for short-term point-to-point transmission service, establishing Gen~Sys Energy. As a point-to-point Transmission Customer under the terms of the Alliant Energy Corporate Services, Inc., transmission tariff.

Alliant Energy Corporate Services, Inc. requests an effective date of June 1, 2000, and accordingly, seeks waiver of the Commission's notice requirements.

A copy of this filing has been served upon the Illinois Commerce Commission, the Minnesota Public Utilities Commission, the Iowa Department of Commerce, and the Public Service Commission of Wisconsin.

Comment date: July 6, 2000, in accordance with Standard Paragraph E at the end of this notice.

22. Consumers Energy Company

[Docket No. ER00-2862-000]

Take notice that on June 15, 2000, Consumers Energy Company (Consumers), tendered for filing executed transmission service agreements with Sempra Energy Trading Corp. (Customer) pursuant to the Joint Open Access Transmission Service Tariff filed on December 31, 1996 by Consumers and The Detroit Edison Company (Detroit Edison).

The agreements have effective dates of June 1, 2000.

Copies of the filed agreement were served upon the Michigan Public Service Commission, Detroit Edison, and the Customer.

Comment date: July 6, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-16270 Filed 6-27-00; 8:45 am]

BILLING CODE 6717-01-P